DEPARTMENT OF HEALTH AND HUMAN SERVICES

National Institutes of Health

Center for Scientific Review; Amended Notice of Meeting

Notice is hereby given of a change in the meeting of the Center for Scientific Review Special Emphasis Panel, June 30, 2005, 8 a.m. to June 30, 2005, 5 p.m., Hyatt Regency Bethesda, One Bethesda Metro Center, Bethesda, MD, 20814 which was published in the Federal Register on May 31, 2005, 70 FR 30956-30961.

The meeting title has been changed to “Small Business: Pulmonary Sciences”. The meeting is closed to the public.

Dated: June 1, 2005.
LaVerne Y. Stringfield,
Director, Office of Federal Advisory Committee Policy.

[FR Doc. 05-11568 Filed 6-9-05; 8:45 am]

BILLING CODE 4140-01-M